DEPARTMENT OF HEALTH AND HUMAN SERVICES

National Institutes of Health

National Cancer Institute; Amended Notice of Meeting

Notice is hereby given of a change in the meeting of the National Cancer Institute Special Emphasis Panel, March 20, 2018, 12:00 p.m. to March 20, 2018, 04:00 p.m., National Cancer Institute Shady Grove, 9609 Medical Center Drive, Rockville, MD 20850 which was published in the Federal Register on February 20, 2018, 83 FR 7201.

This meeting notice is amended to change the meeting name from “Targeted Radiotherapy & Radiation-Induced Toxicity” to “TEP-4: Targeted Radiotherapy & Radiation-Induced Toxicity”. The meeting time has changed from 12:00 p.m. to 4:00 p.m. to 12:30 p.m. to 4:30 p.m. The meeting is closed to the public.

Dated: February 22, 2018.
Melanie J. Pantoja,
Program Analyst, Office of Federal Advisory Committee Policy.

[FR Doc. 2018-04015 Filed 2-27-18; 8:45 am]

BILLING CODE 4140-01-P